ENVIRONMENTAL PROTECTION AGENCY

40 CFR Part 52

[EPA-R01-OAR-2020-0048; FRL-10010-93-Region 1]

Air Plan Approval; Rhode Island; Reasonably Available Control Technology for the 2008 and 2015 Ozone Standards

AGENCY: Environmental Protection Agency (EPA).

ACTION: Proposed rule.

SUMMARY: The Environmental Protection Agency (EPA) is proposing approval of a State Implementation Plan (SIP) revision submitted by the State of Rhode Island. The SIP revision consists of a demonstration that Rhode Island meets the requirements of reasonably available control technology (RACT) for the two precursors for ground-level ozone, oxides of nitrogen (NOX) and volatile organic compounds (VOCs), set forth by the Clean Air Act (CAA or Act) with respect to the 2008 and 2015 ozone National Ambient Air Quality Standards (NAAQSs or standards). Additionally, we are proposing approval of specific regulations that implement the RACT requirements by limiting air emissions of NOX and VOC pollutants from sources within the State. This action is being taken in accordance with the Clean Air Act.

DATES: Written comments must be received on or before July 20, 2020.

ADDRESSES: Submit your comments, identified by Docket ID No. EPA-R01-OAR-2020-0048 at https://www.regulations.gov, or via email to mackintosh.david@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: David L. Mackintosh, Air Quality Branch, U.S. Environmental Protection Agency, EPA Region 1, 5 Post Office Square—Suite 100, (Mail Code 05-2), Boston, MA 02109-3912, tel. 617-918-1584, email Mackintosh.David@epa.gov.

SUPPLEMENTARY INFORMATION: Throughout this document whenever “we,” “us,” or “our” is used, we mean EPA.

Table of Contents

I. Background

II. Summary of Rhode Island's SIP Revision

III. EPA's Evaluation of the Submittal

A. NOX RACT for Major Sources

B. Non-CTG VOC RACT for Major Sources

C. CTG VOC RACT

IV. Proposed Action

V. Incorporation by Reference

VI. Statutory and Executive Order Reviews

I. Background

Rhode Island is part of the Ozone Transport Region (OTR) under Section 184(a) of the CAA. Sections 182(b)(2), 182(f) and 184 of the CAA require states with ozone nonattainment areas that are classified as moderate or above, as well as areas in the OTR, to submit a SIP revision requiring the implementation of VOC RACT for sources covered by a control techniques guideline (CTG) and for all major sources of VOC and NOX. A CTG is a document issued by EPA which establishes a “presumptive norm” for RACT for a specific VOC source category. RACT is defined as the lowest emission limitation that a particular source is capable of meeting by the application of control technology that is reasonably available considering technological and economic feasibility.¹ The CTGs usually identify a particular control level which EPA recommends as being RACT. States are required to address RACT for the source categories covered by CTGs through adoption of rules as part of the SIP.

¹ See Memorandum from Roger Strelow, Assistant Administrator for Air and Waste Management, U.S. EPA, to Regional Administrators, U.S. EPA, “Guidance for Determining Acceptability of SIP Regulations in Non-Attainment Areas” (Dec. 9, 1976); see also 44 FR 53761, 53762 (September 17, 1979).

On October 5, 2006 (71 FR 58745), EPA issued four new CTGs: Industrial Cleaning Solvents; Offset Lithographic Printing and Letterpress Printing; Flexible Package Printing; and Flat Wood Paneling Coatings, and applicable areas were required to address them by October 5, 2007. On October 9, 2007 (72 FR 57215), EPA issued three more CTGs: Paper, Film, and Foil Coatings; Large Appliance Coatings; and Metal Furniture Coatings, and applicable areas were required to address them by October 9, 2008. On October 7, 2008 (73 FR 58841), EPA issued an additional four CTGs: Miscellaneous Metal and Plastic Parts Coatings; Fiberglass Boat Manufacturing Materials; Miscellaneous Industrial Adhesives; and Automobile and Light-Duty Truck Assembly Coatings. Applicable areas were required to address these CTGs by October 7, 2009. Lastly, on Oct 27, 2016 (81 FR 74798), EPA issued a new CTG for the Oil and Natural Gas Industry, and applicable areas were required to address it by October 27, 2018.

On March 27, 2008 (73 FR 16436), EPA revised the health-based NAAQS for ozone to 0.075 parts per million (ppm), averaged over an 8-hour timeframe. EPA determined that the revised 8-hour standard would be more protective of human health, especially with regard to children and adults who are active outdoors and individuals with a pre-existing respiratory disease such as asthma.

On March 6, 2015 (80 FR 12264), EPA published a final rule outlining the obligations for areas in nonattainment with the 2008 ozone standard, as well as obligations for areas in the OTR. This rule, referred to as the “2008 Ozone Implementation Rule,” contains a description of EPA's expectations for states with RACT obligations, and required states in the OTR to certify RACT requirements by July 20, 2014. The 2008 Ozone Implementation Rule gives states several options for meeting RACT requirements for the 2008 ozone standard. States may (1) establish new or more stringent rules that meet RACT control levels for the 2008 standard; (2) certify, where appropriate, that previously adopted RACT rules approved by EPA under a prior ozone standard represent adequate RACT control levels for the 2008 ozone NAAQS; or (3) submit a negative declaration in instances where there are no sources in the state covered by a specific CTG source category. States may use these options alone or in combination to demonstrate compliance with RACT requirements.

On October 26, 2015 (80 FR 65291), EPA revised the health-based NAAQS for ozone, setting it at 0.070 ppm averaged over an 8-hour time frame. On December 6, 2018 (83 FR 62998), EPA published a final rule that outlines the obligations for areas in nonattainment with the 2015 ozone standard, as well as obligations for areas in the OTR. This rule, referred to as the “2015 Ozone Implementation Rule,” requires states in the OTR to certify RACT requirements by August 3, 2020.

On February 3, 2017 (82 FR 9158), EPA published a final rule finding that Rhode Island, as well as 14 other states and the District of Columbia, had failed to submit SIP revisions in a timely manner to satisfy certain requirements for the 2008 ozone NAAQS. With respect to Rhode Island, EPA found that the State had failed to submit three required SIP elements: NOX RACT for Major Sources; Non-CTG VOC RACT for Major Sources; and CTG VOC RACT. Id. at 9162. This finding became effective March 6, 2017, and started a SIP sanctions clock, which required the missing SIP elements to be submitted and deemed complete before September 6, 2018. Id. at 9160-61.

II. Summary of Rhode Island's SIP Revision

On September 20, 2019, Rhode Island submitted to EPA a SIP revision to address its RACT requirements set forth by the CAA for the 2008 and 2015 8-hour ozone NAAQSs (i.e., RACT Certifications). On September 23, 2019, EPA determined Rhode Island's SIP submittal was administratively and technically complete for the 2008 ozone NAAQS. This completeness determination ended the offset sanctions identified in Clean Air Act Section 179(b)(2), which began on September 6, 2018, as described in the Findings of Failure to Submit SIP Submittals for the 2008 ozone NAAQS (82 FR 9158, February 3, 2017).

The Rhode Island RACT Certification submittal is based on (1) newly required RACT controls, for both major sources of NOX and VOCs as well as for VOC sources subject to CTGs, that have been implemented in Rhode Island, and will be part of the Rhode Island SIP upon final approval of this EPA action; (2) previously EPA-approved RACT controls, including regulations and source-specific requirements, that represent RACT control levels under the 2008 and 2015 ozone NAAQSs; and (3) the fact that Rhode Island has no sources subject to RACT for several source categories, for which negative declarations are described in Section III.

Specifically, the Rhode Island September 2019 SIP revision contains a certification that Rhode Island has met all RACT requirements for the 2008 and 2015 8-hour ozone NAAQSs and updates the SIP with the following changes to Title 250 Rhode Island Code of Regulations (RICR), Chapter 120 Air Resources, Subchapter 05 Air Pollution Control: Part 0 General Definitions Regulation; Part 11 Petroleum Liquids Marketing and Storage; Part 15 Control of Organic Solvent Emissions; Part 19 Control of Volatile Organic Compounds from Coating Operations; Part 21 Control of Volatile Organic Compound Emissions from Printing Operations; Part 25 Control of Volatile Organic Compound Emissions from Cutback and Emulsified Asphalt; Part 26 Control of Organic Solvent Emissions from Manufacturers of Synthesized Pharmaceutical Products; Part 27 Control of Nitrogen Oxide Emissions; Part 35 Control of Volatile Organic Compounds and Volatile Hazardous Air Pollutants from Wood Product Manufacturing Operations; Part 36 Control of Emissions from Organic Solvent Cleaning; Part 44 Control of Volatile Organic Compounds from Adhesives and Sealants; and Part 51 Control of Volatile Organic Compound Emissions from Fiberglass Boat Manufacturing.

On November 22, 2019, Rhode Island revised its September 20, 2019, RACT Certifications SIP by letter to EPA. Rhode Island requested the withdrawal of the “Application” paragraph from each Air Pollution Control Regulations, specifically Parts 0.2, 11.2, 15.2, 19.2, 21.2, 25.2, 26.2, 27.2, 35.2, 36.2, 44.2, and 51.2.

III. EPA's Evaluation of the Submittal

A. NOX RACT for Major Sources

Sections 182(f) and 184 of the CAA require that RACT be applied to any major existing stationary source of NOX in the OTR. In Rhode Island, the major source threshold for NOX is the potential to emit 50 tons or greater per year. Rhode Island's NOX RACT regulation, Part 27 Control of Nitrogen Oxide Emissions, applies to all sources with potential NOX emissions of 50 tons per year, or greater, unless they are already subject to a more stringent level of NOX control (i.e., new source review) under Part 9 Air Pollution Control Permits. EPA proposes that Part 9 and Part 27 continue to represent RACT for applicable major stationary sources of NOX in Rhode Island for the 2008 and 2015 ozone standards.

Rhode Island Part 27, Control of Nitrogen Oxide Emissions, includes specific emissions limits for utility boilers, industrial-commercial-institutional boilers, and internal combustion engines which are consistent with EPA guidance. Rhode Island's SIP revision, Table 1 RIDEM 2008/2015 8-Hour Ozone Standard RACT Certification (pages 26 to 29) identifies the pertinent EPA guidance for NOX RACT source categories and indicates whether Part 27 applies or Rhode Island has no applicable sources. EPA last approved Part 27 into the Rhode Island SIP on July 22, 2016 (81 FR 47708). In addition to Part 27, individual sources in Rhode Island may be subject to more stringent technology control measures such as lowest achievable emissions rate (LAER) or best available control technology (BACT) under Rhode Island's new source review rule, Part 9 Air Pollution Control Permits, which was last approved into the Rhode Island SIP on October 24, 2013 (78 FR 63383).

Rhode Island has determined it has four operating major NOX sources subject to source-specific requirements under Part 27, which are described in its RACT Certification in Table 2, Single Source 8-Hour Ozone Standard Certification. The source specific requirements for these four facilities (University of Rhode Island; Rhode Island Hospital; Algonquin Gas Transmission Co.; and Naval Station Newport) were previously approved into the Rhode Island SIP on September 20, 1997 (62 FR 46202).

After reviewing EPA-approved regulations controlling NOX sources and source-specific NOX control requirements described in 40 CFR part 52.2070(c), EPA-approved regulations, EPA agrees with Rhode Island's determination that requirements for major sources of NOX meet, or are more stringent than, the CAA's RACT requirements. Herein, EPA proposes that the above controls represent RACT for these NOX sources in Rhode Island for the 2008 and 2015 ozone standards because no new control technologies are known to be reasonably available considering technological and economic feasibility for these sources since our last approval.

B. Non-CTG VOC RACT for Major Sources

Section 184(b)(2) of the CAA requires RACT be applied to any major existing stationary source with the potential to emit 50 tons or greater per year of VOCs. Rhode Island's Part 15, Control of Organic Solvent Emissions applies to all sources with potential VOC emissions of 50 tons per year, or greater, that are not regulated under a CTG specific regulation. In 2012 (77 FR 14691), EPA approved Part 15 as satisfying RACT requirements for the 1997 ozone NAAQS. Rhode Island revised Part 15 with non-substantive recodification changes and also removed definitions for terms that are now provided for in Part 0 General Definitions, which we are also proposing to approve as described in Section III.C. EPA proposes to approve revised Part 15 because it continues to compel major stationary sources of VOCs in Rhode Island to implement RACT for the 2008 and 2015 ozone standards.

Rhode Island's RACT SIP references two major VOC emitting facilities subject to source-specific requirements under Part 15, which are described in its RACT Certification in Table 2, Single Source 8-Hour Ozone Standard Certification. The requirements for these two facilities, Providence Metalizing and Quality Spray and Stenciling, were previously approved into the Rhode Island SIP in 1990 (55 FR 36635) and 1999 (64 FR 67495), respectively. The Providence Metalizing permit (File No. 87-2-AP) contains VOC emission limitations for certain metal and plastic coating operations for which the categories and corresponding VOC content limits are consistent with the CTG for Miscellaneous Metal and Plastic Parts coatings. The Quality Spray and Stenciling consent agreement (A.H. File No. 97-04-AP) contains general coating and solvent VOC limits and recordkeeping requirements. However, the document does not relieve the facility from complying with the Rhode Island regulations being proposed, which contain updated coating and solvent requirements and constitute RACT for the 2008 and 2015 ozone standard.

After reviewing existing stationary VOC sources in Rhode Island, the EPA agrees with Rhode Island's determination that the requirements for major sources of VOCs meet the CAA's RACT requirements. EPA proposes that the operating facilities with source-specific requirements continue to represent RACT for major VOC sources in Rhode Island for the 2008 and 2015 ozone standards because no new control technologies are known to be reasonably available considering technological and economic feasibility for these sources since our last approval.

C. CTG VOC RACT

Sections 182(b)(2)(A) and 184 of the CAA require that RACT be applied to VOC source categories for which EPA has issued a CTG. In Rhode Island's SIP revision, Table 1 RIDEM 2008/2015 8-Hour Ozone Standard RACT Certification identifies the source categories for which EPA CTGs were issued prior to the submittal of this SIP revision, which includes all CTGs issued by EPA at the time of this proposal. For each CTG, Rhode Island identifies the corresponding requirement that satisfies RACT for which Rhode Island generally took action to either revise an existing regulation, add new regulations, certify existing regulations, certify source specific permit requirements, or certify that no such sources exist (negative declaration).

The revisions to Part 19 Control of Volatile Organic Compounds from Coating Operations, meet the requirements contained in the following several EPA CTGs: Miscellaneous Metal and Plastic Parts Coatings; Flat Wood Paneling Coatings; Paper, Film, and Foil Coatings; Metal Furniture Coating; and Large Appliance Coating. The amendments include revised and new VOC content limitations for paper, film and foil coating, metal furniture coating, large appliance coating, miscellaneous metal and plastic parts coating, and flatwood paneling. The miscellaneous metal and plastic parts coating category contains new specific VOC content limitations for automotive/transportation, business machines, and pleasure craft coatings. The VOC content limitations meet current EPA requirements. The applicability threshold for these categories generally apply to VOC emissions that are greater than or equal to 2.7 tons per rolling 12-month period, except the paper, film and foil coating category which has an applicability threshold of the potential to emit 25 tons of VOC per year from an individual coating line. Work practice standards for surface coating and cleaning operations have also been added to the rule to minimize VOC emissions.

The revisions to Part 21 Control of Volatile Organic Compound Emissions from Printing Operations limit VOC emissions from printing operations to satisfy the requirements contained in two CTGs: Offset Lithographic Printing and Letterpress Printing; and Flexible Package Printing. New requirements for offset lithographic and letterpress printing are added in 21.7.2, which include VOC content limits for fountain solutions, provisions for adding air pollution capture and control equipment, and VOC content limits for cleaning solutions. New flexible package printing requirements are added in 21.7.3, which generally control VOC emissions by either limiting the VOC content of inks, coatings, and adhesives or by adding air pollution capture and control equipment.

The revisions to Part 36 Control of Emissions from Organic Solvent adds 36.16 Requirements for Industrial Cleaning Solvents to satisfy the requirements contained in the CTG for Industrial Cleaning Solvents. Part 36 generally applies to facilities whose industrial solvent cleaning VOC emissions are equal to or greater than 2.7 tons in any twelve-month period, before application of control equipment. The rule exempts cleaning activities associated with several CTG source categories provided such activities are controlled by other Rhode Island air pollution control regulations. The regulation contains work practices and three options for compliance with the VOC content of the industrial cleaning solvent: (1) Use of materials that meet the specific VOC content limitations; (2) use of industrial cleaning solvents that have a VOC composite partial pressure equal to or less than eight mm Hg at 20 °C (68 °F); or (3) achievement of an overall VOC capture control efficiency of at least 85% by weight using add-on air pollution capture and control equipment.

The addition of Part 51 Control of Volatile Organic Compound Emissions from Fiberglass Boat Manufacturing adds a new regulation to the SIP to satisfy the requirements of the CTG for Fiberglass Boat Manufacturing Materials. Part 51 applies to any facility that manufactures fiberglass boat hulls or decks or related parts, builds molds to make fiberglass boat hulls or decks or related parts, or makes polyester resin putties or assembling fiberglass boats, whose total actual VOC emissions, before controls, are greater than or equal to 2.7 tons per rolling 12-month period. The regulation includes work practices and four options for compliance with the monomer (the basic building block of fiberglass resins) VOC content limitations for open molding resins and gel coats, as follows: (1) Use materials which meet the specific VOC content limitations; (2) emissions of no more than a calculated facility-wide emissions average VOC emissions cap; (3) use of add-on air pollution capture and control equipment to emit no more than a numerical monomer VOC emission limitation that is determined for each facility; or (4) apply for alternative RACT approved by Rhode Island and EPA.

Rhode Island has determined four of its existing regulations continue to constitute RACT for 11 CTGs, which were all approved as RACT by EPA in 2012 (77 FR 14691) with respect to the 1997 ozone standard. Rhode Island did however include these four regulations in this SIP revision to update recodification changes Rhode Island introduced since they were last approved by EPA. Thus, this SIP revision proposes to revise these Rhode Island regulations with non-substantive changes and revise the SIP to include revised Part 0 General Definitions Regulation, Part 11 Petroleum Liquids Marketing and Storage, Part 15 Control of Organic Solvent Emissions, Part 25 Control of Volatile Organic Compound Emissions from Cutback and Emulsified Asphalt, Part 26 Control of Organic Solvent Emissions from Manufacturers of Synthesized Pharmaceutical Products, Part 35 Control of Volatile Organic Compounds and Volatile Hazardous Air Pollutants from Wood Product Manufacturing Operations, and Part 44 Control of Volatile Organic Compounds from Adhesives and Sealants.

One CTG, Shipping Building and Ship Repair Operation, is addressed in Rhode Island by two source specific permit requirements issued to Senseco and General Dynamics that were last approved by EPA as constituting RACT in 2012 (77 FR 14691) with respect to the 1997 ozone standard. The CTG requirements have not changed, thus EPA agrees with Rhode Island's determination that these permits continue to constitute RACT.

Rhode Island has determined that there are no applicable stationary sources of VOC in Rhode Island for the following twelve CTG categories: (1) Refinery Vacuum Producing Systems, Wastewater Separators, and Process Unit Turnarounds; (2) Leaks from Petroleum Refinery Equipment; (3) Manufacture of Pneumatic Rubber Tires; (4) Large Petroleum Dry Cleaners; (5) Manufacture of High-Density Polyethylene, Polypropylene, and Polystyrene Resins; (6) Equipment Leaks from Natural Gas/Gasoline Processing Plants; (7) Equipment Leaks from Synthetic Organic Chemical and Polymer Manufacturing Equipment; (8) Air Oxidation Processes in Synthetic Organic Chemical Manufacturing; (9) Reactor Processes and Distillation operations Processes in Synthetic Organic Chemical Manufacturing; (10) Coating Operations at Aerospace Manufacturing and Rework Operations; (11) Surface Coating of Automobiles and Light-Duty Trucks; and (12) Oil and Natural Gas Industry. These negative declarations mean that Rhode Island has no applicable stationary sources of VOC that are covered by these CTGs.

EPA has evaluated Rhode Island' CTG VOC regulations, which the State certifies as meeting RACT for the 2008 and 2015 ozone standards, and EPA finds that the regulations are sufficiently consistent with recommendations in the respective EPA CTGs and are based on currently available technologically and economically feasible controls. Therefore, EPA proposes that the regulations being added and revised in this action, along with the past approved VOC CTG regulations, represent RACT in Rhode Island for the 2008 and 2015 ozone standards.

IV. Proposed Action

EPA is proposing to approve the Rhode Island SIP revision as meeting the State's RACT obligations for the 2008 and 2015 8-hour ozone NAAQSs as set forth in sections 182(b), 182(f) and 184(b)(2) of the CAA, and to add “Reasonably Available Control Technology State Implementation Plan Revision 2008 and 2015 Ozone National Ambient Air Quality Standards” dated September 20, 2019, which also includes twelve negative declarations for CTG source categories, to the Rhode Island SIP. EPA is also proposing to approve Subchapter 05 Air Pollution Control changes to the Rhode Island SIP. Specifically, revisions to Part 0 General Definitions Regulation, Part 11 Petroleum Liquids Marketing and Storage, Part 15 Control of Organic Solvent Emissions, Part 19 Control of Volatile Organic Compounds from Coating Operations, Part 21 Control of Volatile Organic Compound Emissions from Printing Operations, Part 25 Control of Volatile Organic Compound Emissions from Cutback and Emulsified Asphalt, Part 26 Control of Organic Solvent Emissions from Manufacturers of Synthesized Pharmaceutical Products, Part 27 Control of Nitrogen Oxide Emissions, Part 35 Control of Volatile Organic Compounds and Volatile Hazardous Air Pollutants from Wood Product Manufacturing Operations, Part 36 Control of Emissions from Organic Solvent Cleaning, Part 44 Control of Volatile Organic Compounds from Adhesives and Sealants, and addition of Part 51 Control of Volatile Organic Compound Emissions from Fiberglass Boat Manufacturing, with paragraphs 0.2, 11.2, 15.2, 19.2, 21.2, 25.2, 26.2, 27.2, 35.2, 36.2, 44.2, and 51.2 stricken from the regulations. EPA is soliciting public comments on the issues discussed in this notice or on other relevant matters. These comments will be considered before taking final action. Interested parties may participate in the Federal rulemaking procedure by submitting written comments to this proposed rule by following the instructions listed in the ADDRESSES section of this Federal Register.

V. Incorporation by Reference

In this document, EPA is proposing to amend regulatory text that includes incorporation by reference. In accordance with requirements of 1 CFR 51.5, EPA is proposing changes to the Rhode Island SIP as described in the Proposed Action section above. The EPA has made, and will continue to make, these documents generally available through https://www.regulations.gov and at the EPA Region 1 Office (please contact the person identified in the FOR FURTHER INFORMATION CONTACT section of this preamble for more information).

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not expected to be an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Dated: June 10, 2020.
Dennis Deziel,
Regional Administrator, EPA Region 1.

[FR Doc. 2020-12958 Filed 6-17-20; 8:45 am]

BILLING CODE 6560-50-P